DEPARTMENT OF TRANSPORTATION

National Highway Traffic Safety Administration

Petition for Exemption From the Vehicle Theft Prevention Standard; Mercedes-Benz

AGENCY: National Highway Traffic Safety Administration (NHTSA), Department of Transportation (DOT).

ACTION: Grant of petition for exemption.

SUMMARY: This document grants in full the Mercedes-Benz USA, LLC (MBUSA) petition for an exemption of the SL-Class Line Chassis vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard (49 CFR part 541).

DATES: The exemption granted by this notice is effective beginning with the 2011 model year.

FOR FURTHER INFORMATION CONTACT: Ms. Rosalind Proctor, Office of International Policy, Fuel Economy and Consumer Programs, NHTSA,1200 New Jersey Avenue, SE., West Building, W43-302, Washington, DC 20590. Ms. Proctor's telephone number is (202) 366-0846. Her fax number is (202) 493-0073.

SUPPLEMENTARY INFORMATION: In a petition dated April 26, 2010, MBUSA requested an exemption from the parts-marking requirements of the Theft Prevention Standard (49 CFR part 541) for the new MY 2011 SL-Class Line Chassis vehicle line. The petition requested an exemption from parts-marking pursuant to 49 CFR part 543, Exemption from Vehicle Theft Prevention Standard, based on the installation of an antitheft device as standard equipment for an entire vehicle line.

Under § 543.5(a), a manufacturer may petition NHTSA to grant an exemption for one vehicle line per model year. In its petition, MBUSA provided a detailed description and diagram of the identity, design, and location of the components of the antitheft device for its new vehicle line. MBUSA will install a passive ignition immobilizer (FBS III) and access code protected locking system as standard equipment on its new vehicle line beginning with MY 2011. MBUSA stated that its immobilizer device is an interlinked system of control units which collectively perform the immobilizer function. The interlinked system includes the engine, electronic ignition starter, transmitter key, electronic control unit and the fuel injection system which independently calculates and matches a unique code. MBUSA stated that if a relevant query from the vehicle to the transmitter key is valid, operation of the vehicle is authorized. MBUSA stated that the device will also incorporate an audible and visible alarm feature as standard equipment. MBUSA's submission is considered a complete petition as required by 49 CFR 543.7, in that it meets the general requirements contained in § 543.5 and the specific content requirements of § 543.6.

MBUSA stated that activation of the device occurs automatically when the key is removed from the ignition switch, whether the doors are open or not. Once activated, only a valid key with the correct code inserted into the ignition switch will disable immobilization and allow the vehicle to start and operate. MBUSA further stated that no other action by the operator other than turning the key is required to activate or deactivate the immobilizer.

In its submission, MBUSA stated that a locking/unlocking function is also incorporated into the device. The data exchange between the transmitter key and the vehicle's central controller for the lock/unlock function is carried out by radio signal. The unlocking signal from the remote key sends a message to the vehicle's central electronic control unit and a permanent code is verified and compared to the stored code in the Signal Acquisition Module (SAM). MBUSA stated that the locking system will only unlock the doors, tailgate and fuel filler cover when both codes match.

In addressing the specific content requirements of § 543.6, MBUSA provided information on the reliability and durability of its proposed device. To ensure reliability and durability of the immobilizer device, MBUSA conducted performance tests based on its Economic Commission for Europe (ECE) specified standards. MBUSA provided a detailed list of the tests conducted and believes that the device is reliable and durable since the device complied with the specified requirements for each test. MBUSA also stated that it believes that the immobilizer device offered on the SL-class vehicle will be at least as effective as compliance with the parts-marking requirements of the theft prevention standard and as effective in deterring theft as it has been in other MBUSA vehicle lines for which theft data has been published. MBUSA submitted theft rate data published by the agency comparing its proposed device to antitheft devices already installed in the Aston Martin Vantage, BMW 6-series and Porsche 911 vehicle lines. MBUSA stated it believes that an immobilizer device was effective in contributing to a 63.5% reduction in the theft rate for the Aston Martin Vantage Line. Specifically, data published by the agency showed a theft rate of 0.0000 for the calendar year (CY) 2006 Aston Martin Vantage vehicle line and 0.6784 for the MY 2007. MBUSA also referenced theft data published by the agency which showed that the average theft rate for the BMW 6-series with an immobilizer was 2.3505 in MY/CY 2005 and 1.6227 in MY/CY 2007. MBUSA stated that it believes that this data also indicates that the immobilizer device was effective in contributing to an additional (31%) reduction in the theft rate of the BMW 6-series vehicle line. MBUSA also referenced theft rate data published by the agency for the Porsche 911 vehicle line (with an immobilizer) showing a theft rate experience of 0.8342 and 0.000 for MY/CY's 2005 and 2006 respectively. MBUSA stated that it believes that the data indicates that the immobilizer device was effective in contributing to a 13.8% reduction in the theft rate of the Porsche 911 vehicle line.

MBUSA stated that its proposed device is also functionally similar to the antitheft devices installed on the Mercedes-Benz E-Class, C-Class and SLK Class chassis vehicles which the agency has already exempted from the parts-marking requirements. In its submission, MBUSA concluded that lower theft rates could be expected from vehicles equipped with immobilizer devices as standard equipment. MBUSA stated it believes that the data indicated the immobilizer device was effective in contributing to an average reduction of 29.9% in the theft rate of the SL-Line Chassis when theft rates for the vehicle line dropped from 1.4170 (CY 2005) to 1.0460 (CY 2007).

Based on the supporting evidence submitted by MBUSA on the device, the agency believes that the antitheft device for the SL-Class Line Chassis vehicle line is likely to be as effective in reducing and deterring motor vehicle theft as compliance with the parts-marking requirements of the Theft Prevention Standard (49 CFR part 541). The agency concludes that the device will provide the five types of performance listed in § 543.6(a)(3): promoting activation; attracting attention to the efforts of an unauthorized person to enter or move a vehicle by means other than a key; preventing defeat or circumvention of the device by unauthorized persons; preventing operation of the vehicle by unauthorized entrants; and ensuring the reliability and durability of the device.

Pursuant to 49 U.S.C. 33106 and 49 CFR 543.7(b), the agency grants a petition for exemption from the parts-marking requirements of part 541 either in whole or in part, if it determines that, based upon substantial evidence, the standard equipment antitheft device is likely to be as effective in reducing and deterring motor vehicle theft as compliance with the parts-marking requirements of part 541. The agency finds that MBUSA has provided adequate reasons for its belief that the antitheft device for the MBUSA new vehicle line is likely to be as effective in reducing and deterring motor vehicle theft as compliance with the parts-marking requirements of the Theft Prevention Standard (49 CFR part 541). This conclusion is based on the information MBUSA provided about its device.

For the foregoing reasons, the agency hereby grants in full MBUSA's petition for exemption for the SL-Class line Chassis vehicle line from the parts-marking requirements of 49 CFR part 541, beginning with the 2011 model year vehicles. The agency notes that 49 CFR part 541, appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts-marking requirements of the Theft Prevention Standard.

If MBUSA decides not to use the exemption for this line, it must formally notify the agency. If such a decision is made, the line must be fully marked according to the requirements under 49 CFR 541.5 and 541.6 (marking of major component parts and replacement parts).

NHTSA notes that if MBUSA wishes in the future to modify the device on which this exemption is based, the company may have to submit a petition to modify the exemption. Section 543.7(d) states that a part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: June 1, 2010.
Stephen R. Kratzke,
Associate Administrator for Rulemaking.

[FR Doc. 2010-13466 Filed 6-3-10; 8:45 am]

BILLING CODE 4910-59-P